DEPARTMENT OF EDUCATION

[CFDA No. 84.215L]

Office of Elementary and Secondary Education; Smaller Learning Communities Program; Notice Inviting Applications for New Awards Using Fiscal Year (FY) 2009 Funds; Correction

SUMMARY: On June 23, 2010, we published in the Federal Register (75 FR 35894) a notice inviting applications for new awards using fiscal year (FY) 2009 funds for the Smaller Learning Communities Program. There are errors in two of the dates in that notice. We are correcting those dates in this notice.

SUPPLEMENTARY INFORMATION:

Correction

1. On page 35896, third column, the deadline for the Notice of Intent to Apply is corrected to read “July 15, 2010.”

2. On page 35897, first column, under the heading Notice of Intent to Apply, the second sentence is removed and replaced with the following sentence: “Therefore, we strongly encourage each potential applicant to send an e-mail notice of its intent to apply for funding by July 15, 2010.”

3. On page 35897, first column, the deadline for the Transmittal of Applications is corrected to read “August 6, 2010.”

FOR FURTHER INFORMATION CONTACT: Angela Hernandez-Marshall, U.S. Department of Education, 400 Maryland Avenue, SW., room 3E308, Washington, DC 20202-6200. Telephone: 202-205-1909 or by e-mail: smallerlearningcommunities@ed.gov.

If you use a TDD, call the Federal Relay Service, toll free, at 1-800-877-8339.

Accessible Format: Individuals with disabilities can obtain this document and a copy of the application package in an accessible format (e.g., braille, large print, audiotape, or computer diskette) on request to the program contact person listed under FOR FURTHER INFORMATION CONTACT in section VII of this notice.

Electronic Access to This Document: You can view this document, as well as all other documents of this Department published in the Federal Register, in text or Adobe Portable Document Format (PDF) on the Internet at the following site: http://www.ed.gov/news/fedregister. To use PDF you must have Adobe Acrobat Reader, which is available free at this site.

Note: The official version of this document is the document published in the Federal Register. Free Internet access to the official edition of the Federal Register and the Code of Federal Regulations is available on GPO Access at: http://www.gpoaccess.gov/nara/index.html.

Dated: June 25, 2010.
Thelma Meléndez de Santa Ana,
Assistant Secretary for Elementary and Secondary Education.

[FR Doc. 2010-15917 Filed 6-29-10; 8:45 am]

BILLING CODE 4000-01-P